DEPARTMENT OF COMMERCE

Foreign-Trade Zones Board

[Order No. 1342]

Grant of Authority For Subzone Status; L'Oreal USA, Inc. (Cosmetic and Beauty Products); Middlesex, Somerset and Union Counties, NJ

Pursuant to its authority under the Foreign-Trade Zones Act, of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, the New Jersey Commerce and Economic Growth Commission, grantee of Foreign-Trade Zone 44, has made application to the Board for authority to establish a special-purpose subzone at the cosmetic and beauty products manufacturing and warehousing facilities of L'Oreal USA, Inc., located in Middlesex, Somerset and Union Counties, New Jersey (FTZ Docket 60-2003, filed 11/6/03, amended 3/12/04);

Whereas, notice inviting public comment was given in the Federal Register (68 FR 65245-65246, 11/19/03 and 69 FR 13811-13812, 3/24/04); and,

Whereas, the Board adopts the findings and recommendations of the examiner's report, and finds that the requirements of the FTZ Act and the Board's regulations are satisfied, and that approval of the application, as amended, is in the public interest;

Now, therefore, the Board hereby grants authority for subzone status at the cosmetic and beauty products manufacturing and warehousing facilities of L'Oreal USA, Inc., located in Middlesex, Somerset and Union Counties, New Jersey (Subzone 44E), at the locations described in the amended application, and subject to the FTZ Act and the Board's regulations, including § 400.28.

Signed at Washington, DC, this 15th day of July 2004.
James J. Jochum,
Assistant Secretary of Commerce for Import Administration, Alternate Chairman, Foreign-Trade Zones Board.
Attest:
Dennis Puccinelli,
Executive Secretary.

[FR Doc. 04-17073 Filed 7-26-04; 8:45 am]

BILLING CODE 3510-DS-P